CONSUMER PRODUCT SAFETY COMMISSION

16 CFR Chapter II

[Docket No. CPSC-2017-0029]

Request for Information on Potentially Reducing Regulatory Burdens Without Harming Consumers

AGENCY: U.S. Consumer Product Safety Commission.

ACTION: Request for information.

SUMMARY: The Consumer Product Safety Commission (CPSC, or Commission) seeks suggestions for ways the Commission could potentially reduce burdens and costs of its existing rules, regulations, or practices without harming consumers.

DATES: Written comments must be submitted by September 30, 2017.

ADDRESSES: You may submit comments, identified by Docket No. CPSC-2017-0029 by any of the following methods:

Electronic Submissions: Submit electronic comments to the Federal eRulemaking Portal at: http://www.regulations.gov. Follow the instructions for submitting comments. The Commission does not accept comments submitted by electronic mail (email) except through http://www.regulations.gov. The Commission encourages you to submit electronic comments by using the Federal eRulemaking Portal as described above.

Written Submissions: Submit written submissions by mail/hand delivery/courier to: Office of the Secretary, U.S. Consumer Product Safety Commission, Room 820, 4330 East West Highway, Bethesda, MD 20814; telephone (301) 504-7923.

Instructions: All submissions received must include the agency name and docket number for this notice. All comments received may be posted without change to http://www.regulations.gov, including any personal information provided. Do not submit confidential business information, trade secret information, or other sensitive or protected information (such as a Social Security Number) electronically; if furnished at all, such information should be submitted in writing.

Docket: For access to the docket to read background documents or comments received, go to http://www.regulations.gov and insert the docket number Docket No. CPSC-2017-0029 into the “Search” box, and follow the prompts.

FOR FURTHER INFORMATION CONTACT: DeWane Ray, Deputy Executive Director, U.S. Consumer Product Safety Commission, 4330 East West Highway, Bethesda, MD 20814; 301-504-7547; email: jray@cpsc.gov.

SUPPLEMENTARY INFORMATION: CPSC is an independent regulatory agency charged with protecting the public from unreasonable risks of injury or death associated with the use of the thousands of types of consumer products under the agency's jurisdiction. Deaths, injuries, and property damage from consumer product incidents cost the nation more than $1 trillion annually. CPSC uses a variety of approaches to achieve its mission. Among the agency's tools is issuing regulations concerning the safety of consumer products. The Commission is seeking suggestions from the public about ways to lessen burdens and reduce costs of its existing rules, regulations, or practices without increasing the risk of deaths or injuries to consumers. When submitting suggestions with respect to existing rules, regulations or practices, the Commission requests information and data in support of the suggestion, and answers to the questions, as appropriate, listed in Section V.b of the Commission's Plan for Retrospective Review of Existing Rules, available at: https://www.cpsc.gov/Global/Regulations-Laws-and-Standards/Rulemaking/FINALrulereviewplanAPRIL2016.pdf.

To submit your ideas, please follow the instructions in the ADDRESSES section of this document.

Dated: June 12, 2017.
Todd A. Stevenson,
Secretary, Consumer Product Safety Commission.

[FR Doc. 2017-12434 Filed 6-15-17; 8:45 am]

BILLING CODE 6355-01-P